DEPARTMENT OF COMMERCE

National Oceanic and Atmospheric Administration

[RTID 0648-XC543]

New England Fishery Management Council; Public Meeting; Correction

AGENCY: National Marine Fisheries Service (NMFS), National Oceanic and Atmospheric Administration (NOAA), Commerce.

ACTION: Notice of correction of a public meeting.

SUMMARY: The New England Fishery Management Council (Council) is scheduling a public meeting of its Groundfish Advisory Panel via webinar to consider actions affecting New England fisheries in the exclusive economic zone (EEZ). Recommendations from this group will be brought to the full Council for formal consideration and action, if appropriate.

DATES: This webinar will be held on Thursday, December 1, 2022, beginning at 1:30 p.m. Webinar registration URL information: https://attendee.gotowebinar.com/register/3900671858064240652.

ADDRESSES:

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published in the Federal Register on November 15, 2022 (87 FR 68440). The original notice stated the time of the meeting was to begin at 12:30 p.m. This notice corrects the time of the meeting to begin at 1:30 p.m. All other previously published information remains the same.

Authority: 16 U.S.C. 1801 et seq.

Dated: November 15, 2022.
Diane M. DeJames-Daly,
Acting Deputy Director, Office of Sustainable Fisheries, National Marine Fisheries Service.

[FR Doc. 2022-25203 Filed 11-17-22; 8:45 am]

BILLING CODE 3510-22-P